DEPARTMENT OF VETERANS AFFAIRS

[OMB Control No. 2900-New (28-1903)]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 21, 2006.

FOR FURTHER INFORMATION OR A COPY OF THE SUBMISSION CONTACT: Denise McLamb, Records Management Service (005E3), Department of Veterans Affairs, 810 Vermont Avenue, NW., Washington, DC 20420, (202) 565-8374, Fax (202) 565-6950 or e-mail: denise.mclamb@mail.va.gov. Please refer to “OMB Control No. 2900-New (28-1903).”

Send comments and recommendations concerning any aspect of the information collection to VA's OMB Desk Officer, OMB Human Resources and Housing Branch, New Executive Office Building, Room 10235, Washington, DC 20503 (202) 395-7316. Please refer to “OMB Control No. 2900-New (28-1903)” in any correspondence.

SUPPLEMENTARY INFORMATION: Title: Contract for Training and Employment (Chapter 31, Title 38 U.S. Code), VA Form 28-1903.

OMB Control Number: 2900-New (28-1903).

Type of Review: Existing collection in use without an OMB number.

Abstract: VA Form 28-1903 is used to standardize contracts agreements between VA and training facilities/vendors providing vocational rehabilitation training and employment to veterans. VA uses the data collected to ensure that veterans are receiving the training/employment as agreed in the contract.

An agency may not conduct or sponsor, and a person is not required to respond to a collection of information unless it displays a currently valid OMB control number. The Federal Register Notice with a 60-day comment period soliciting comments on this collection of information was published on December 9, 2005 at pages 73327-73328.

Affected Public: Business or other for-profit, Not for-profit institutions, Individuals or households, and Farms.

Estimated Annual Burden: 1,200 hours.

Estimated Average Burden Per Respondent: 60 minutes.

Frequency of Response: One-time.

Estimated Number of Respondents: 1,200.

Dated: March 15, 2006.
By direction of the Secretary.
Denise McLamb,
Program Analyst, Records Management Service.

[FR Doc. E6-4160 Filed 3-21-06; 8:45 am]

BILLING CODE 8320-01-P